DEPARTMENT OF COMMERCE

National Oceanic and Atmospheric Administration

[I.D. 050107E]

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Plan Team will meet in Seattle, WA.

DATES: The meeting will be held on May 22-23, 2007, from 9 a.m. to 5 p.m.

ADDRESSES: The meeting will be held at the Alaska Fishery Science Center, 7600 Sand Point Way NE, Building 4, Traynor Room, Seattle, WA.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The agenda includes the following:

1. Discussion of new Magnuson Stevens Reauthorization Act (MSRA) requirements - Annual Catch Limits and Accountability Measures, implications for the Crab Fishery Management Plan;

2. Review of draft Crab Overfishing Definition Assessment - review new alternatives and option, approval of document;

3. Review of 2006/07 Bering Sea Aleutian Island Crab fisheries;

4. Overview 2006 summer research plans/schedules;

5. Review of Aleutian Island Fishery Ecosystem plan;

6. Review stock assessment models;

7. Review and approve guidelines for external stock assessment reviews;

8. Review Bering Sea Crab Essential Fish Habitat measures considered by Council;

9. Discuss Stock Assessment Fishery Evaluation and other reporting issues;

10. Review of Crab Research Priorities; and

11. Other issues as needed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen, (907) 271-2809, at least 5 working days prior to the meeting date.

Dated: May 1, 2007.
Tracey L. Thompson,
Acting Director, Office of Sustainable Fisheries, National Marine Fisheries Service.

[FR Doc. E7-8546 Filed 5-3-07; 8:45 am]

BILLING CODE 3510-22-S